DEPARTMENT OF THE INTERIOR

Bureau of Land Management

[ES-910-01-1430-HN-LRTN]

Notice of Temporary Closure of Access to Public Lands Administered by the Bureau of Land Management; Fairfax County, VA

AGENCY: Bureau of Land Management, Interior.

ACTION: Notice.

SUMMARY: The Bureau of Land Management (BLM), Eastern States, is temporarily closing Meadowood Farm in Fairfax County, Virginia to public entry with the exception of those persons who board their horses at the boarding facility located on the property. This closure notice serves as a follow-up to the Planning Analysis/Environmental Assessment (PA/EA) whose Notice of Availability was published in the Federal Register on August 6, 2001. Section II(A) of the PA/EA stipulated that upon acquisition, Meadowood Farm would be closed to the public on an interim basis until a long-term management plan could be completed. This closure complies with the requirements of the Federal Land Policy and Management Act, that a land use plan be completed prior to acquisition of land. This is to ensure protection of resources, protection of structures and facilities, and provide for the safety of the public. The authority for this closure is found in 43 CFR 8364.1. The closure is necessary to protect soils, vegetation, cultural, wildlife and riparian resources, facilities, structure, from potential adverse effects. No recreational activities for public use exist currently except horseback riding. All new activities must undergo an Environmental Assessment to determine their levels of impact to sensitive areas, habitat, resources. It is necessary that this be done to preclude adverse impacts and unintended degradation of the property and to provide for the safety of the public until a plan is completed.

A horse boarding facility is located on the property and will, during the closure period, continue operation under a Special Recreation Permit. No new activities will be allowed until completion of a PA/EA. The main entrance to the property leading to the office will remain open to the general public. All other access will be closed except to Federal, State and local officers and bureau employees in the scope of his or her duties, contractors, consultants and their employees engaged in official duties, members of organized rescue or fire-fighting force in performance of official duties, and others with written permission from the Bureau of Land Management.

EFFECTIVE DATE: This closure goes into effect upon acquisition of the Meadowood Farm, and will remain in effect until the State Director, Eastern States determines it is no longer needed.

Location: The land commonly known as Meadowood Farm, Fairfax County, Virginia is closed to the public.

FOR FURTHER INFORMATION CONTACT: Charles Bush, Meadowood Project Manager, Bureau of Land Management, Eastern States, 7450 Boston Boulevard, Springfield, Virginia 22153. (703) 440-1745.

Prohibited Act: Under 43 CFR 8364.1 and 8360.0-7, the Bureau of Land Management is providing notice that within the closure area described above:

You must not enter the closed area.

Exemptions: Persons who are exempt from these rules include any Federal, State or local officer or employee in the scope of his or her duties, members of any organized rescue or fire-fighting force in performance of an official duty, contractors, and their employees while engaged in official duty, and others authorized in writing by the Bureau of Land Management.

Penalties: Penalties for violating this closure notice is found in section 303(a) of the Federal Land Policy and Management Act of 1976 (43 U.S.C. 1733(a)) and 43 CFR 8360.0-7. Any person who fails to comply with a restriction order may be tried before a United States Magistrate and fined not more than $1,000 or imprisoned for no more than 12 months, or both.

Dated: October 4, 2001.
Gayle F. Gordon,
State Director.

[FR Doc. 01-26569 Filed 10-19-01; 8:45 am]

BILLING CODE 4310-GJ-P